DEPARTMENT OF THE INTERIOR

Bureau of Land Management

[89% to CO-956-1420-BJ-0000-241A; 11% to CO-956-7130-BJ-7385-241A]

Colorado: Filing of Plats of Survey

January 14, 2004.

SUMMARY: The plats of survey of the following described land will be officially filed in the Colorado State Office, Bureau of Land Management, Lakewood, Colorado, effective 10 a.m., January 14, 2004. All inquiries should be sent to the Colorado State Office, Bureau of Land Management, 2850 Youngfield Street, Lakewood, Colorado 80215-7093.

The plat representing the dependent resurvey in section 24, Township 9 South, Range 81 West, Sixth Principal Meridian, Group 1254, Colorado, was accepted October 9, 2003.

The plat representing the dependent resurvey and survey, in Township 6 South, Range 94 West, Sixth Principal Meridian, Group 1357, Colorado, was accepted October 20, 2003.

The plat (in 4 sheets), representing the dependent resurveys and surveys in Township 33 North, Range 11 East, New Mexico Principal Meridian, Group 1371, Colorado, was accepted October 31, 2003.

The plat (in 4 sheets), representing the dependent resurveys and surveys in Township 34 North, Range 11 East, New Mexico Principal Meridian, Group 1371, Colorado, was accepted October 31, 2003.

The plat representing the dependent resurveys and surveys in Township 35 North, Range 11 East, New Mexico Principal Meridian, Group 1371, Colorado, was accepted October 31, 2003.

The plat, of the entire record, representing the dependent resurvey in Township 44 North, Range 5 West, New Mexico Principal Meridian, Group 1393, Colorado, was accepted November 6, 2003.

The plat representing the dependent resurveys and surveys in Township 7 South, Range 91 West, Sixth Principal Meridian, Group 1323, Colorado, was accepted December 1, 2003.

The supplemental plat canceling lots 1 through 4, and to correct annotated distances on the E. and W. centerline in section 7, Township 4 South, Range 100 West, Sixth Principal Meridian, Colorado, was accepted October 9, 2003.

These surveys and plats were requested by the Bureau of Land Management for administrative and management purposes.

The plat representing the dependent resurvey of certain mineral surveys and the metes-and-bounds survey of a portion of Ouray County Road No. 361, in Township 43 North, Range 8 West, New Mexico Principal Meridian, Group 1404, Colorado, was accepted December 17, 2003.

This survey and plat was requested by the legal staff of Ouray County, Colorado, for the purpose of segregating Public Domain lands from adjacent boundary lines of certain mineral surveys.

Paul Lukacovic,
Acting Chief Cadastral Surveyor for Colorado.

[FR Doc. 04-1786 Filed 1-27-04; 8:45 am]

BILLING CODE 4310-JB-P